DEPARTMENT OF ENERGY

Federal Energy Regulatory Commission

Notice of FERC Staff Attendance at the Entergy Regional State Committee Meeting

The Federal Energy Regulatory Commission (Commission) hereby gives notice that members of its staff may attend the meeting noted below. Their attendance is part of the Commission's ongoing outreach efforts.

Entergy Regional State Committee

December 2, 2013 (1:00 pm-5:00 pm)

This meeting will be held at the Windsor Court Hotel, 300 Gravier Street, New Orleans, LA 70130.

The discussions may address matters at issue in the following proceedings:

Louisiana Public Service Commission v. Entergy Services, Inc | Docket No. EL01-88
Louisiana Public Service Commission v. Entergy Services, Inc | Docket No. EL09-50
Louisiana Public Service Commission v. Entergy Services, Inc | Docket No. EL09-61
Louisiana Public Service Commission v. Entergy Services, Inc | Docket No. EL10-55
Louisiana Public Service Commission v. Entergy Services, Inc | Docket No. EL10-65
Louisiana Public Service Commission v. Entergy Services, Inc., et al | Docket No. EL11-57
Louisiana Public Service Commission v. Entergy Services, Inc | Docket No. EL11-63
Louisiana Public Service Commission v. Entergy Services, Inc | Docket No. EL11-65
Occidental Chemical Company v. Midwest Independent System Transmission Operator, Inc | Docket No. EL13-41
Council of the City of New Orleans, Mississippi Public Service Commission, Arkansas Public Service Commission, Public Utility Commission of Texas, Louisiana Public Service Commission | Docket No. EL13-43
Entergy Services, Inc | Docket No. ER05-1065
Entergy Services, Inc | Docket No. ER07-682
Entergy Services, Inc | Docket No. ER07-956
Entergy Services, Inc | Docket No. ER08-1056
Entergy Services, Inc | Docket No. ER09-1224
Entergy Services, Inc | Docket No. ER10-794
Entergy Services, Inc | Docket No. ER10-1350
Entergy Arkansas, Inc | Docket No. ER10-2001
Entergy Arkansas, Inc | Docket No. ER10-3357
Entergy Texas, Inc | Docket No. ER11-2161
Midwest Independent Transmission System Operator, Inc | Docket No. ER12-480
Entergy Arkansas, Inc | Docket No. ER12-1384
Entergy Gulf States Louisiana, L.L.C | Docket No. ER12-1385
Entergy Louisiana, LLC | Docket No. ER12-1386
Entergy Mississippi, Inc | Docket No. ER12-1387
Entergy New Orleans, Inc | Docket No. ER12-1388
Entergy Texas, Inc | Docket No. ER12-1390
Entergy Arkansas, Inc | Docket No. ER12-1428
Entergy Corp., Midwest Independent Transmission System Operator, Inc. and ITC Holdings Corp | Docket Nos. ER12-2681
Midwest Independent Transmission System Operator, Inc | Docket No. ER12-2682
Entergy Services, Inc | Docket No. ER12-2683
Entergy Services, Inc | Docket No. ER12-2693
Entergy Services, Inc | Docket No. ER13-288
Entergy Services, Inc | Docket No. ER13-432
Entergy Arkansas, Inc. and Entergy Mississippi, Inc | Docket No. ER13-769
Entergy Arkansas, Inc. and Entergy Louisiana, LLC | Docket No. ER13-770
ITC Arkansas LLC, et al | Docket No. ER13-782
Midwest Independent Transmission System Operator, Inc | Docket No. ER13-868
Midwest Independent Transmission System Operator, Inc | Docket No. ER13-945
Entergy Services, Inc | Docket No. ER13-948
Entergy Services, Inc | Docket No. ER13-1194
Entergy Services, Inc | Docket No. ER13-1195
Entergy Services, Inc | Docket No. ER13-1303
Entergy Services, Inc | Docket No. ER13-1317
Entergy Arkansas, Inc | Docket No. ER13-1508
Entergy Gulf States Louisiana, L.L.C | Docket No. ER13-1509
Entergy Louisiana, LLC | Docket No. ER13-1510
Entergy Mississippi, Inc | Docket No. ER13-1511
Entergy New Orleans, Inc | Docket No. ER13-1512
Entergy Texas, Inc | Docket No. ER13-1513
Entergy Services, Inc | Docket No. ER13-1556
Entergy Services, Inc | Docket No. ER13-1623
Midcontinent Independent System Operator | Docket No. ER13-2385
Entergy Services, Inc | Docket No. ER14-73
Entergy Arkansas, Inc | Docket No. ER14-75
Entergy Gulf States Louisiana, L.L.C | Docket No. ER14-76
Entergy Louisiana, LLC | Docket No. ER14-77
Entergy Mississippi, Inc | Docket No. ER14-78
Entergy New Orleans, Inc | Docket No. ER14-79
Entergy Texas, Inc | Docket No. ER14-80
Entergy Arkansas, Inc | Docket No. ER14-89
Midcontinent Independent System Operator | Docket No. ER14-97
Midcontinent Independent System Operator and Entergy Services, Inc | Docket No. ER14-98
Midcontinent Independent System Operator and Entergy Services, Inc | Docket No. ER14-100
Midcontinent Independent System Operator | Docket No. ER14-107
Entergy Services, Inc | Docket No. ER14-108
Midcontinent Independent System Operator | Docket No. ER14-114
Midcontinent Independent System Operator | Docket No. ER14-115
Entergy Texas, Inc | Docket No. ER14-128
Entergy Mississippi, Inc | Docket No. ER14-131
Entergy Arkansas, Inc | Docket No. ER14-134
Midcontinent Independent System Operator | Docket No. ER14-136
Midcontinent Independent System Operator | Docket No. ER14-148
Entergy Services, Inc | Docket No. ER14-273
Union Power Partners, L.P | Docket No. ER14-296
Entergy Services, Inc | Docket No. ER14-369

These meetings are open to the public.

For more information, contact Patrick Clarey, Office of Energy Market Regulation, Federal Energy Regulatory Commission at (317) 249-5937 or patrick.clarey@ferc.gov.

Dated: November 13, 2013.
Kimberly D. Bose,
Secretary.

[FR Doc. 2013-27745 Filed 11-19-13; 8:45 am]

BILLING CODE 6717-01-P